DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of March 16, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance”)

Dated: February 11, 2015.
Roy E. Wright,
Deputy Associate Administrator for Mitigation, Department of Homeland Security, Federal Emergency Management Agency.

I. Watershed-based studies:

Upper Cumberland Watershed
Community | Community map repository address
Bell County, Kentucky, and Incorporated Areas Docket No.: FEMA-B-1351
City of Middlesboro | County Clerk's Office, 121 North 21st Street, Middlesboro, KY 40965.
City of Pineville | City Hall, 300 Virginia Avenue, Pineville, KY 40977.
Unincorporated Areas of Bell County | Bell County Courthouse, 1 Courthouse Square, Pineville, KY 40977.
Harlan County, Kentucky, and Incorporated Areas Docket No.: FEMA-B-1351
City of Benham | City Hall, 230 Main Street, Benham, KY 40807.
City of Cumberland | City Clerk's Office, 402 West Main Street, Cumberland, KY 40823.
City of Evarts | City Office, 101 Harlan Street, Evarts, KY 40828.
City of Harlan | City Clerk's Office, 218 South Main Street, Harlan, KY 40831.
City of Loyall | Mayor's Office, 306 Carter Avenue, Loyall, KY 40854.
City of Lynch | City Office, 6 East Main Street, Lynch, KY 40855.
City of Wallins Creek | City Hall, 3280 Main Street, Wallins Creek, KY 40873.
Unincorporated Areas of Harlan County | Judge Executives Office, 210 East Central Street, Suite 111, Harlan, KY 40831.
Knox County, Kentucky, and Incorporated Areas Docket No.: FEMA-B-1351
| City of Barbourville | City Government of Barbourville, 196 Daniel Boone Drive, Barbourville, KY 40906.
Unincorporated Areas of Knox County | Knox County PVA Office, 401 Court Square, Suite 101, Barbourville, KY 40906.
Laurel County, Kentucky, and Incorporated Areas Docket No.: FEMA-B-1351
City of London | City Hall, 501 South Main Street, London, KY 40741.
Unincorporated Areas of Laurel County | Laurel County Courthouse, 101 South Main Street, Room 320, London, KY 40741.
Letcher County, Kentucky, and Incorporated Areas Docket No.: FEMA-B-1351
City of Blackey | Public Library, 95 Main Street, Blackey, KY 41804.
City of Fleming-Neon | City Hall, 955 KY Highway 317, Fleming-Neon, KY 41840.
City of Jenkins | City Hall, 853 Lakeside Drive, Jenkins, KY 41537.
City of Whitesburg | City Hall, 38 East Main Street, Whitesburg, KY 41858.
Unincorporated Areas of Letcher County | Letcher County Courthouse, 156 Main Street, Suite 107, Whitesburg, KY 41858.
McCreary County, Kentucky, and Incorporated Areas Docket No.: FEMA-B-1351
Unincorporated Areas of Mccreary County | McCreary County Courthouse, 1 North Main Street, Whitley City, KY 42653.
Whitley County, Kentucky, and Incorporated Areas Docket No.: FEMA-B-1351
City of Corbin | City Hall, 805 South Main Street, Corbin, KY 40701.
City of Williamsburg | City Hall, 423 Main Street, Williamsburg, KY 40769.
Unincorporated Areas of Whitley County | Whitley County Health Department, 368 Penny Lane, Williamsburg, KY 40769.
Claiborne County, Tennessee, and Incorporated Areas Docket No.: FEMA-B-1351
Unincorporated Areas of Claiborne County | Claiborne County Courthouse, 1740 Main Street, Tazewell, TN 37879.

II. Non-watershed-based studies:

Community | Community map repository address
Martin County, Florida, and Incorporated Areas Docket No.: FEMA-B-1351
City of Stuart | Development Department, 121 Southwest Flagler Avenue, Stuart, FL 34994.
Town of Jupiter Island | Town Hall, 2 Southeast Bridge Road, Hobe Sound, FL 33455.
Town of Ocean Breeze | Town Hall, 7 Northeast 3rd Avenue, Jensen Beach, FL 34957.
Town of Sewalls Point | Town Hall, 1 South Sewall's Point Road, Sewall's Point, FL 34996.
Unincorporated Areas of Martin County | Martin County Administration Center, 2401 Southeast Monterey Road, 2nd Floor, Stuart, FL 34996.
Effingham County, Georgia, and Incorporated Areas Docket No.: FEMA-B-1310
City of Rincon | City Hall, 302 South Columbia Avenue, Rincon, GA 31326.
City of Springfield | City Hall, 130 South Laurel Street, Springfield, GA 31329.
Town of Guyton | City Hall, 310 Central Boulevard, Guyton, GA 31312.
Unincorporated Areas of Effingham County | Effingham County Administrative Complex, 601 North Laurel Street, Springfield, GA 31329.
Stephenson County, Illinois, and Incorporated Areas Docket No.: FEMA-B-1356
City of Freeport | Freeport City Hall, 524 West Stephenson Street, Freeport, IL 61032.
Unincorporated Areas of Stephenson County | Stephenson County Planning and Zoning Department, 295 West Lamm Road, Freeport, IL 61032.
Village of Ridott | Ridott Village Hall, 200 East 3rd Street, Ridott, IL 61067.
Village of Winslow | Winslow Village Hall, 501 School Street, Winslow, IL 61089.
Pottawatomie County, Kansas, and Incorporated Areas Docket No.: FEMA-B-1340
City of St. George | City Hall, 220 First Street, St. George, KS 66535.
Unincorporated Areas of Pottawatomie County | County Office Building, 207 North First Street, Westmoreland, KS 66549.
Riley County, Kansas, and Incorporated Areas Docket No.: FEMA-B-1336
City of Manhattan | City Hall, 1101 Poyntz Avenue, Manhattan, KS 66502.
City of Ogden | City Hall, 222 Riley Avenue, Ogden, KS 66517.
City of Riley | City Hall, 902 West Walnut Street, Riley, KS 66531.
Unincorporated Areas of Riley County | County Office Building, 110 Courthouse Plaza, Manhattan, KS 66502.
Dorchester County, Maryland, and Incorporated Areas Docket No.: FEMA-B-1359
City of Cambridge | Department of Public Works, 1025 Washington Street, Cambridge, MD 21613.
Town of Brookview | Brookview Town Council Office, 5649 Indian Town Road, Rhodesdale, MD 21659.
Town of Church Creek | Fire Hall, 1902 Church Creek Road, Church Creek, MD 21622.
Town of Eldorado | Eldorado Town Commission Office, 5808 Eldorado Road, Rhodesdale, MD 21659.
Town of Galestown | Town Hall, 5538 Old Schoolhouse Road, Galestown, MD 19973.
Town of Hurlock | Town Council Office, 311 Charles Street, Hurlock, MD 21643.
Town of Secretary | Town Commission Office, 122 Main Street, Secretary, MD 21664.
Town of Vienna | Town Hall, 214 Market Street, Vienna, MD 21869.
Unincorporated Areas of Dorchester County | Dorchester County Office Building, 501 Court Lane, Cambridge, MD 21613.
Arenac County, Michigan (All Jurisdictions) Docket No.: FEMA-B-1342
City of Au Gres | City Hall, 124 West Huron Road, Au Gres, MI 48703.
City of Omer | City Hall, 201 East Center Street, Omer, MI 48749.
City of Standish | City Hall, 399 East Beaver Street, Standish, MI 48658.
Township of Arenac | Township Office, 2596 State Road, Standish, MI 48658.
Township of Au Gres | Township Office, 1865 Swenson Road, Au Gres, MI 48703.
Township of Clayton | Township Office, 1057 Dobler Road, Sterling, MI 48659.
Township of Deep River | Township Office, 525 East State Street, Sterling, MI 48659.
Township of Lincoln | Township Office, 5173 Johnsfield Road, Standish, MI 48658.
Township of Mason | Township Office, 1225 West Maple Ridge Road, Twining, MI 48766.
Township of Moffatt | Township Office, 7842 Newberry Street, Alger, MI 48610.
Township of Sims | Township Office, 4489 East Huron Road, Au Gres, MI 48703.
Township of Standish | Township Hall, 4997 Arenac State Road, Standish, MI 48658.
Township of Turner | Township Office, 110 Park Street, Twining, MI 48766.
Township of Whitney | Township Office, 1515 North Huron Road, Tawas City, MI 48763.
Village of Turner | Town Hall, 109 West Main Street, Turner, MI 48765.
Forrest County, Mississippi, and Incorporated Areas Docket No.: FEMA-B-1351
City of Hattiesburg | Building and Inspections Department, City Hall, 200 Forrest Street, Hattiesburg, MS 39401.
Unincorporated Areas of Forrest County | Forrest County Board of Supervisor's Office, County Courthouse, 629 Main Street, Hattiesburg, MS 39401.
Albany County, New York (All Jurisdictions) Docket No.: FEMA-B-1272
City of Albany | City Hall, 24 Eagle Street, Albany, NY 12207.
City of Cohoes | City Hall, 97 Mohawk Street, Cohoes, NY 12047.
City of Watervliet | City Hall, 2 15th Street, Watervliet, NY 12189.
Town of Berne | Town Hall, 1615 Helderberg Trail, Berne, NY 12023.
Town of Bethlehem | Bethlehem Town Hall, 445 Delaware Avenue, Delmar, NY 12054.
Town of Coeymans | Coeymans Town Hall, 18 Russell Avenue, Ravena, NY 12143.
Town of Colonie | Colonie Town Hall, 534 Loudon Road, Newtonville, NY 12128.
Town of Guilderland | Guilderland Town Hall, 5209 Western Turnpike, Altamont, NY 12009.
Town of New Scotland | New Scotland Town Hall, 2029 New Scotland Road, Slingerlands, NY 12159.
Town of Rensselaerville | Rensselaerville Town Hall, 87 Barger Road, Medusa, NY 12120.
Town of Westerlo | Town Hall, 671 County Route 401, Westerlo, NY 12193.
Township of Knox | Town Hall, 2192 Berne-Altamont Road, Knox, NY 12107.
Village of Altamont | Village Hall, 115 Main Street, Altamont, NY 12009.
Village of Green Island | Village Hall, 20 Clinton Street, Green Island, NY 12183.
Village of Menands | Village Hall, 250 Broadway, Menands, NY 12204.
Village of Ravena | Village Hall, 15 Mountain Road, Ravena, NY 12143.
Village of Voorheesville | Village Hall, 29 Voorheesville Avenue, Voorheesville, NY 12186.
Licking County, Ohio, and Incorporated Areas Docket No.: FEMA-B-1356
City of Heath | Municipal Building, 1287 Hebron Road, Heath, OH 43056.
City of Newark | City Hall, 40 West Main Street, Newark, OH 43055.
City of Pataskala | City Hall, 621 West Broad Street, Pataskala, OH 43062.
City of Reynoldsburg | City Hall, 7232 East Main Street, Reynoldsburg, OH 43068.
Unincorporated Areas of Licking County | The Donald D. Hill County Administration Building, 20 South Second Street, Newark, OH 43055.
Village of Alexandria | Village Office, 4 West Main Street, Alexandria, OH 43001.
Village of Granville | Village Office, 141 East Broadway, Granville, OH 43023.
Village of Hanover | Village Office, 200 New Home Drive NE, Newark, OH 43055.
Village of Hartford | Hartford Village Town Hall, 2 North High Street, Croton, OH 43013.
Village of Hebron | Village Office, 934 West Main Street, Hebron, OH 43025.
Village of Johnstown | Village Office, 599 South Main Street, Johnstown, OH 43031.
Village of Kirkersville | Kirkersville Mayor's Office, 135 North Fourth Street, Kirkersville, OH 43033.
Village of Utica | Village Office, 39 Spring Street, Utica, OH 43080.
Bucks County, Pennsylvania (All Jurisdictions) Docket No.: FEMA-B-1293
Borough of Bristol | Borough Municipal Building, 250 Pond Street, Bristol, PA 19007.
Borough of Chalfont | Borough Hall, 40 North Main Street, Chalfont, PA 18914.
Borough of Doylestown | Borough Hall, 57 West Court Street, Doylestown, PA 18901.
Borough of Hulmeville | Borough Hall, 321 Main Street, Hulmeville, PA 19047.
Borough of Langhorne | Borough Office, 114 East Maple Avenue, Langhorne, PA 19047.
Borough of Langhorne Manor | Langhorne Manor Borough Municipal Building, 618 Hulmeville Avenue, Langhorne, PA 19047.
Borough of Morrisville | Borough Hall, 35 Union Street, Morrisville, PA 19067.
Borough of New Britain | Borough Hall, 45 Keeley Avenue, New Britain, PA 18901.
Borough of New Hope | Borough Hall, 123 New Street, New Hope, PA 18938.
Borough of Newtown | Pickering, Corts, & Summerson, 642 Newtown-Yardley Road, Suite 300, Newtown, PA 18940.
Borough of Penndel | Borough Hall, 300 Bellevue Avenue, Penndel, PA 19047.
Borough of Perkasie | Borough Municipal Building, 620 West Chestnut Street, Perkasie, PA 18944.
Borough of Quakertown | Borough Hall, 35 North 3rd Street, Quakertown, PA 18951.
Borough of Riegelsville | Borough Municipal Building, 615 Easton Road, Riegelsville, PA 18077.
Borough of Sellersville | Borough Municipal Building, 140 East Church Street, Sellersville, PA 18960.
Borough of Silverdale | Borough Hall, 100 West Park Avenue, Silverdale, PA 18962.
Borough of Trumbauersville | Borough Hall, 1 Evergreen Drive, Trumbauersville, PA 18970.
Borough of Tullytown | Borough Municipal Building, 500 Main Street, Tullytown, PA 19007.
Borough of Yardley | Borough Hall, 56 South Main Street, Yardley, PA 19067.
Township of Bedminster | Township of Bedminster, Land and Municipal Office, 432 Elephant Road, Perkasie, PA 18944.
Township of Bensalem | Township Building, 2400 Byberry Road, Bensalem, PA 19020.
Township of Bridgeton | Bridgeton Township Office, 1370 Bridgeton Hill Road, Upper Black Eddy, PA 18972.
Township of Bristol | Township Hall, 2501 Bath Road, Bristol, PA 19007.
Township of Buckingham | Township Office, 4613 Hughesian Drive, Buckingham, PA 18912.
Township of Doylestown | Township Administration Building, 425 Wells Road, Doylestown, PA 18901.
Township of Durham | Township Municipal Building, 215 Old Furnace Road, Durham, PA 18039.
Township of East Rockhill | East Rockhill Township Hall, 1622 North Ridge Road, Perkasie, PA 18944.
Township of Falls | Falls Township Building, 188 Lincoln Highway, Suite 100, Fairless Hills, PA 19030.
Township of Haycock | Haycock Township Municipal Building, 640 Harrisburg School Road, Quakertown, PA 18951.
Township of Hilltown | Township Hall, 13 West Creamery Road, Hilltown, PA 18927.
Township of Lower Makefield | Lower Makefield Township Building, 1100 Edgewood Road, Yardley, PA 19067.
Township of Lower Southampton | Lower Southampton Township Municipal Building, 1500 Desire Avenue, Feasterville, PA 19053.
Township of Middletown | Middletown Township Municipal Center, 3 Municipal Way, Langhorne, PA 19047.
Township of Milford | Milford Township Hall, 2100 Krammes Road, Quakertown, PA 18951.
Township of New Britain | New Britain Township Municipal Building, 207 Park Avenue, Chalfont, PA 18914.
Township of Newtown | Township Building, 100 Municipal Drive, Newtown, PA 18940.
Township of Nockamixon | Nockamixon Township Office, 589 Lake Warren Road, Upper Black Eddy, PA 18972.
Township of Northampton | Northampton Township Administrative Building, 55 Township Road, Richboro, PA 18954.
Township of Plumstead | Plumstead Township Hall, 5186 Stump Road, Pipersville, PA 18947.
Township of Richland | Richland Township Municipal Building, 1328 California Road, Suite A, Quakertown, PA 18951.
Township of Solebury | Township Hall, 3092 North Sugan Road, Solebury, PA 18963.
Township of Springfield | Springfield Township Hall, 2320 Township Road, Quakertown, PA 18951.
Township of Tinicum | Tinicum Township Municipal Building, 163 Municipal Road, Pipersville, PA 18947.
Township of Upper Makefield | Upper Makefield Township Building, 1076 Eagle Road, Newtown, PA 18940.
Township of Upper Southampton | Upper Southampton Township Building, 939 Street Road, Southampton, PA 18966.
Township of Warminster | Municipal Building, 401 Gibson Avenue, Warminster, PA 18974.
Township of Warrington | Township Building, 852 Easton Road, Warrington, PA 18976.
Township of Warwick | Warwick Township Hall, 1733 Township Greene, Jamison, PA 18929.
Township of West Rockhill | West Rockhill Township Office, 1028 Ridge Road, Sellersville, PA 18960.
Township of Wrightstown | Township Building, 2203 Second Street Pike, Wrightstown, PA 18940.

[FR Doc. 2015-03837 Filed 2-24-15; 8:45 am]

BILLING CODE 9110-12-P